NATIONAL AERONAUTICS AND SPACE ADMINISTRATION

48 CFR Parts 1832 and 1852

[Notice: 23-119]

RIN 2700-AE71

Federal Acquisition Regulation Supplement: Revision of the Definition of “Commercial Item” (NFS Case 2022-N003); Corrections

AGENCY: National Aeronautics and Space Administration.

ACTION: Correcting amendment.

SUMMARY: On September 19, 2023, the National Aeronautics and Space Administration (NASA) revised its rule concerning the definition of a commercial item for consistency with the FAR. However, that document inadvertently failed to update the dates associated with the NASA FAR Supplement provisions and clauses that were revised as a result of the changes to the commercial item definition and some references were erroneously unchanged. This document corrects the final regulations.

DATES: Effective November 24, 2023.

FOR FURTHER INFORMATION CONTACT: James Becker, NASA HQs, Office of Procurement Management and Policy Division, LP-011, 300 E Street SW, Washington, DC 20456-0001. Telephone 202-358-1286; facsimile 301 286-1296; facsimile 202 358-3082.

SUPPLEMENTARY INFORMATION: The rule was published in the Federal Register on September 19, 2023 (88 FR 64385). This document makes corrections to the rule which became effective on October 19, 2023 (88 FR 64835).

List of Subjects in 48 CFR Parts 1832 and 1852

Government procurement.

Accordingly, 48 CFR parts 1832 and 1852 are corrected by making the following correcting amendments:

1. The authority citation for parts 1832 and 1852 continues to read as follows:

Authority: 51 U.S.C. 20113(a) and 48 CFR chapter 1.

PART 1832—CONTRACT FINANCING

2. Revise the heading for subpart 1832.1 to read as follows:

Subpart 1832.1—Financing for Other Than a Commercial Purchase

3. Revise the heading for subpart 1832.2 to read as follows:

Subpart 1832.2—Commercial Product and Commercial Service Purchase Financing

PART 1852—SOLICITATION PROVISIONS AND CONTRACT CLAUSES

4. Amend section 1852.213-70 by the revising the date of the provision to read as follows:

1852.213-70 Offeror Representations and Certifications—Other Than Commercial Products and Commercial Services.

* * * * *

Offeror Representations and Certifications—Other Than Commercial Products and Commercial Services (OCT 2023)

* * * * *

5. Amend section 1852.213-71 by revising the date of the provision to read as follows:

1852.213-71 Evaluation—Other Than Commercial Products and Commercial Services.

* * * * *

Evaluation—Other Than Commercial Products and Commercial Services (OCT 2023)

* * * * *

6. Amend section 1852.215-85 by revising the section heading, date of the provision, and entry 17 of the checklist to read as follows:

1852.215-85 Proposal Adequacy Checklist.

* * * * *

Proposal Adequacy Checklist (OCT 2023)

* * * * *

Proposal Adequacy Checklist
References | Submission item | Proposal page No. | If not provided explain (may use continuation pages traceable to this checklist)
* * * * * * *
17. FAR 52.215-20, FAR 2.101, “commercial product and commercial service” | Has the offeror submitted an exception to the submission of certified cost or pricing data for Commercial Products and Commercial Services proposed either at the prime or subcontractor level, in accordance with provision 52.215-20?
| a. Has the offeror specifically identified the type of commercial product and commercial service (FAR 2.101 commercial product and commercial service definition) and the basis on which it meets the definition?
| b. For modified commercial products and commercial services (FAR 2.101 commercial product and commercial service); did the offeror classify the modification(s) as either—
| i. A modification of a type customarily available in the commercial marketplace (paragraph (3)(i)); or
| ii. A minor modification (paragraph (3)(ii)) of a type not customarily available in the commercial marketplace made to meet Federal Government requirements not exceeding the thresholds in FAR 15.403-1(c)(3)(iii)(B)?
| c. For proposed commercial products and commercial services “of a type”, or “evolved” or modified (FAR 2.101 commercial product and commercial service definition) did the contractor provide a technical description of the differences between the proposed item and the comparison item(s)?
* * * * * * *

* * * * *

7. Amend section 1852.223-74 by revising the section heading and date of the clause to read as follows:

1852.223-74 Drug- and Alcohol-Free Workforce.

* * * * *

Drug- and Alcohol-Free Workforce (OCT 2023)

* * * * *

8. Amend section 1852.246-74 by revising the clause heading and date to read as follows:

1852.246-74 Contractor Counterfeit Electronic Part Detection and Avoidance.

* * * * *

Contractor Counterfeit Electronic Part Detection and Avoidance (OCT 2023)

* * * * *

Dated: November 15, 2023.
Erica Jones,
NASA FAR Supplement Manager.

[FR Doc. 2023-25761 Filed 11-22-23; 8:45 am]

BILLING CODE 7510-13-P